DEPARTMENT OF TRANSPORTATION

Maritime Administration

46 CFR Part 390

[Docket No. MARAD 2008 0075]

RIN 2133-AB71

Capital Construction Fund; Corrections

AGENCY: Maritime Administration, Department of Transportation.

ACTION: Correcting amendments.

SUMMARY: The Maritime Administration published a document in the Federal Register on September 30, 2008, revising the Capital Construction Fund regulation. The document inadvertently failed to update all of the legal citations within the regulation and this rule makes these changes.

DATES: Effective Date: This final rule is effective April 14, 2009.

FOR FURTHER INFORMATION CONTACT: Murray Bloom, Chief, Division of Maritime Programs, Maritime Administration at 202-366-5320, via e-mail at Murray.Bloom@dot.gov, or by writing to Murray Bloom, Office of the Chief Counsel, Maritime Administration, MAR-222, 1200 New Jersey Avenue, SE., Washington, DC 20590.

SUPPLEMENTARY INFORMATION:

In FR Doc. 2008-0075 appearing on page 56738 in the Federal Register of Tuesday, September 30, 2008, corrections are made in this erratum.

List of Subjects in 46 CFR Part 390

Income taxes, Investments, Maritime carriers, Vessels.

Accordingly, 46 CFR Part 390 is corrected by making the following correcting amendments:

PART 390—CAPITAL CONSTRUCTION FUND

1. The authority citation for part 390 is amended to read as follows:

Authority: Secs. 53501, et seq., of Title 46, United States Code, formerly, sec. 607, Merchant Marine Act, 1936, as amended (46 App. U.S.C. 1177); 49 CFR 1.66.

§ 390.5 [Amended]

2. In § 390.5, paragraph (c)(7)(iii) is amended by removing the phrase, “paragraphs (c)(7)(i) and (ii) of this section” and adding in its place the phrase “(c)(8)(i) and (ii) of this section.”

Appendix I to Part 390 [Amended]

3. In Appendix I to Part 390, remove the phrase “as amended (46 U.S.C. 802)”.

4. In the table below, for each section indicated in the left column, remove the phrase indicated in the middle column and add the phrase indicated in the right column:

Section | Remove | Add
Appendix I to Part 390 | section 607 of the Act | 46 U.S.C. 53501 et seq.
Appendix I to Part 390 | subsection 607(f) of the Act | 46 U.S.C. 53509.
Appendix II to Part 390 | section 607 of the Act | 46 U.S.C. 53501 et seq.
Appendix II to Part 390 | section 607(k) of the Act | 46 U.S.C. 53501.
Appendix II to Part 390 | section 167 of the Internal Revenue Code of 1954 | section 167 of the Internal Revenue Code of 1986.
Appendix IV to Part 390 | section 607 of the Merchant Marine Act, 1936, as amended (“Act”) | 46 U.S.C. 53501 et seq.
Appendix IV to Part 390 | Internal Revenue Code of 1954 | Internal Revenue Code of 1986.
Appendix V to Part 390 | section 607 of the Merchant Marine Act, 1936, as amended | 46 U.S.C. 53501 et seq.

By Order of the Maritime Administrator.
Dated: April 6, 2009.
Leonard Sutter,
Secretary, Maritime Administration.

[FR Doc. E9-8226 Filed 4-13-09; 8:45 am]

BILLING CODE 4910-81-P